FEDERAL MARITIME COMMISSION

Performance Review Board

AGENCY: Federal Maritime Commission.

ACTION: Notice.

SUMMARY: Notice is hereby given of the names of the members of the Performance Review Board.

FOR FURTHER INFORMATION CONTACT: Harriette H. Charbonneau, Director of Human Resources, Federal Maritime Commission, 800 North Capitol Street, NW., Washington, DC 20573.

SUPPLEMENTARY INFORMATION: Sec. 4314(c)(1) through (5) of title 5, U.S.C., requires each agency to establish, in accordance with regulations prescribed by the Office of Personnel Management, one or more performance review boards. The board shall review and evaluate the initial appraisal of a senior executive's performance by the supervisor, along with any recommendations to the appointing authority relative to the performance of the senior executive.

Steven R. Blust,
Chairman.

Members of the Performance Review Board:

1. A. Paul Anderson, Commissioner.

2. Joseph E. Brennan, Commissioner.

3. Harold J. Creel, Jr., Commissioner.

4. Rebecca F. Dye, Commissioner.

5. Clay G. Guthridge, Administrative Law Judge.

6. Bryant L. VanBrakle, Secretary.

7. Bruce A. Dombrowski, Director of Administration.

8. Florence A. Carr, Director, Bureau of Trade Analysis.

9. Vern W. Hill, Director, Bureau of Enforcement.

10. Sandra L. Kusumoto, Director, Bureau of Certification and Licensing.

11. Austin L. Schmitt, Director of Operations.

12. Amy W. Larson, General Counsel.

[FR Doc. E6-18237 Filed 10-30-06; 8:45 am]

BILLING CODE 6730-01-P